COMMISSION ON CIVIL RIGHTS

Agenda and Notice of Public Meeting of the Vermont Advisory Committee

Notice is hereby given, pursuant to the provisions of the rules and regulations of the U.S. Commission on Civil Rights (Commission) and the Federal Advisory Committee Act (FACA), that a briefing meeting of the Vermont Advisory Committee to the Commission will convene at 10:00 EDT on Monday, August 11, 2014 in Room 11 at the Vermont Statehouse located at 115 State St., Montpelier, VT 05633. The purpose of the briefing meeting is to hear from government officials, advocates, and other experts as well as the public to update the 2009 Vermont Advisory Committee report of racial profiling in Vermont.

Members of the public are entitled to submit written comments. The comments must be received in the regional office by September 11, 2014. Comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email, or street address.

The meeting will be conducted pursuant to the provisions of the rules and regulations of the Commission and FACA.

Persons needing accessibility services should contact the Eastern Regional Office at least 10 working days before the scheduled date of the meeting.

Dated in Washington, DC, on July 17, 2014.
Marlene Sallo,
Staff Director.

[FR Doc. 2014-17264 Filed 7-22-14; 8:45 am]

BILLING CODE 6335-01-P